DEPARTMENT OF HOMELAND SECURITY

Federal Emergency Management Agency

[Docket ID FEMA-2017-0002; Internal Agency Docket No. FEMA-B-1734]

Changes in Flood Hazard Determinations

AGENCY: Federal Emergency Management Agency, DHS.

ACTION: Notice.

SUMMARY: This notice lists communities where the addition or modification of Base Flood Elevations (BFEs), base flood depths, Special Flood Hazard Area (SFHA) boundaries or zone designations, or the regulatory floodway (hereinafter referred to as flood hazard determinations), as shown on the Flood Insurance Rate Maps (FIRMs), and where applicable, in the supporting Flood Insurance Study (FIS) reports, prepared by the Federal Emergency Management Agency (FEMA) for each community, is appropriate because of new scientific or technical data. The FIRM, and where applicable, portions of the FIS report, have been revised to reflect these flood hazard determinations through issuance of a Letter of Map Revision (LOMR), in accordance with Title 44, Part 65 of the Code of Federal Regulations (44 CFR part 65). The LOMR will be used by insurance agents and others to calculate appropriate flood insurance premium rates for new buildings and the contents of those buildings. For rating purposes, the currently effective community number is shown in the table below and must be used for all new policies and renewals.

DATES: These flood hazard determinations will become effective on the dates listed in the table below and revise the FIRM panels and FIS report in effect prior to this determination for the listed communities.

From the date of the second publication of notification of these changes in a newspaper of local circulation, any person has 90 days in which to request through the community that the Deputy Associate Administrator for Insurance and Mitigation reconsider the changes. The flood hazard determination information may be changed during the 90-day period.

ADDRESSES: The affected communities are listed in the table below. Revised flood hazard information for each community is available for inspection at both the online location and the respective community map repository address listed in the table below. Additionally, the current effective FIRM and FIS report for each community are accessible online through the FEMA Map Service Center at www.msc.fema.gov for comparison.

Submit comments and/or appeals to the Chief Executive Officer of the community as listed in the table below.

FOR FURTHER INFORMATION CONTACT: Rick Sacbibit, Chief, Engineering Services Branch, Federal Insurance and Mitigation Administration, FEMA, 400 C Street SW., Washington, DC 20472, (202) 646-7659, or (email) patrick.sacbibit@fema.dhs.gov; or visit the FEMA Map Information eXchange (FMIX) online at www.floodmaps.fema.gov/fhm/fmx_main.html.

SUPPLEMENTARY INFORMATION: The specific flood hazard determinations are not described for each community in this notice. However, the online location and local community map repository address where the flood hazard determination information is available for inspection is provided.

Any request for reconsideration of flood hazard determinations must be submitted to the Chief Executive Officer of the community as listed in the table below.

The modifications are made pursuant to section 201 of the Flood Disaster Protection Act of 1973, 42 U.S.C. 4105, and are in accordance with the National Flood Insurance Act of 1968, 42 U.S.C. 4001 et seq., and with 44 CFR part 65.

The FIRM and FIS report are the basis of the floodplain management measures that the community is required either to adopt or to show evidence of having in effect in order to qualify or remain qualified for participation in the National Flood Insurance Program (NFIP).

These flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. The flood hazard determinations are in accordance with 44 CFR 65.4.

The affected communities are listed in the following table. Flood hazard determination information for each community is available for inspection at both the online location and the respective community map repository address listed in the table below. Additionally, the current effective FIRM and FIS report for each community are accessible online through the FEMA Map Service Center at www.msc.fema.gov for comparison.

(Catalog of Federal Domestic Assistance No. 97.022, “Flood Insurance.”)

Dated: June 28, 2017.
Roy E. Wright,
Deputy Associate Administrator for Insurance and Mitigation, Department of Homeland Security, Federal Emergency Management Agency.

State and country | Location and case No. | Chief executive officer of community | Community map repository | Online location of letter of map revision | Effective date of modification | Community No.
Arizona:
Maricopa | City of Tempe (17-09-0156P) | The Honorable Mark Mitchell Mayor, City of Tempe, P.O. Box 5002 Tempe, AZ 85280 | City Hall Engineering Department, 31 East 5th Street, Tempe, AZ 85281 | http://www.msc.fema.gov/lomc | Sep. 29, 2017 | 040054
Pinal | Unincorporated Areas of Pinal County (16-09-0931P) | The Honorable Stephen Miller, Chairman, Board of Supervisors, Pinal County, 135 North Pinal Street, Florence, AZ 85132 | Pinal County, Engineering Department, 31 North Pinal Street, Building F, Florence, AZ 85132 | http://www.msc.fema.gov/lomc | Sep. 22, 2017 | 040077
California:
Fresno | City of Clovis (17-09-0445P) | The Honorable Bob Whalen, Mayor, City of Clovis, 1033 5th Street, Clovis, CA 93612 | Building Division, 1033 5th Street, Clovis, CA 93612 | http://www.msc.fema.gov/lomc | Oct. 2, 2017 | 060044
Los Angeles | City of Santa Clarita (17-09-0916P) | The Honorable Cameron Smyth, Mayor, City of Santa Clarita, 23920 Valencia Boulevard, Suite 300, Santa Clarita, CA 91355 | City Hall, Planning Department, 23920 Valencia Boulevard, Suite 300, Santa Clarita, CA 91355 | http://www.msc.fema.gov/lomc | Oct. 6, 2017 | 060729
Illinois:
Kane | Village of Carpentersville (17-05-1258P) | The Honorable John Skillman, Village President, Village of Carpentersville, 1200 L.W. Besinger Drive, Carpentersville, IL 60110 | Village Hall, 1200 L.W. Besinger Drive, Carpentersville, IL 60110 | http://www.msc.fema.gov/lomc | Oct. 5, 2017 | 170322
Kansas:
Johnson | City of Overland Park (16-07-1770P) | The Honorable Carl Gerlach, Mayor, City of Overland Park, 8500 Santa Fe Drive, Overland Park, KS 66212 | City Hall, 8500 Santa Fe Drive, Overland Park, KS 66212 | http://www.msc.fema.gov/lomc | Sep. 14, 2017 | 200174
Tennessee:
Smith | Unincorporated Areas of Smith County (16-04-7918P) | The Honorable Michael Nesbitt, Mayor, Smith County, 122 Turner High Circle, Carthage, TN 37030 | Smith County Turner Building, 122 Turner High Circle, Carthage, TN 37030 | http://www.msc.fema.gov/lomc | Sep. 22, 2017 | 470283
Trousdale | Unincorporated Areas of Trousdale County (16-04-7918P) | The Honorable Carroll Carman, Mayor, Trousdale County, 328 Broadway, Room 6-10, Hartsville, TN 37074 | Trousdale County, Sheriff Department, 210 Broadway, Hartsville, TN 37074 | http://www.msc.fema.gov/lomc | Sep. 22, 2017 | 470192
Wisconsin:
Outagamie | City of Appleton (17-05-1963P) | The Honorable Timothy Hanna, Mayor, City of Appleton, 100 North Appleton Street, Appleton, WI 54911 | City Hall, 100 North Appleton Street, Appleton, WI 54911 | http://www.msc.fema.gov/lomc | Sep. 29, 2017 | 555542
Waukesha | Village of Sussex (17-05-0632P) | The Honorable Gregory L. Goetz, President, Village of Sussex, N64W23760 Main Street, Sussex, WI 53089 | Village Hall, N64W23760 Main Street, Sussex, WI 53089 | http://www.msc.fema.gov/lomc | Sep. 15, 2017 | 550490

[FR Doc. 2017-15418 Filed 7-21-17; 8:45 am]

BILLING CODE 9110-12-P